DEPARTMENT OF JUSTICE

Notice of Lodging of Proposed Consent Decree Under the Resource Conservation and Recovery Act

On June 20, 2016, the Department of Justice lodged a proposed consent decree with the United States District Court for the Northern District of Georgia in the lawsuit entitled United States and State of Georgia v. Metal Conversion Technologies, LLC, et al., Civil Action No. 4:16-cv-00168-HLM.

The United States of America (“United States”), on behalf of the Administrator of the United States Environmental Protection Agency (“EPA”), and the State of Georgia on behalf of the Environmental Protection Division of the Georgia Department of Natural Resources, (“State”) (collectively, “Plaintiffs), filed a complaint against Metal Conversion Technologies, LLC, John Patterson, and 1 Porter Street, LLC (“Defendants”) pursuant to the Solid Waste Disposal Act (“SWDA”), as amended by the Resource Conservation and Recovery Act (“RCRA”), 42 U.S.C. 6901 et seq. and the Georgia Comprehensive Solid Waste Management Act, O.C.G.A. §§ 12-8-24 et seq. The complaint state eight claims for relief: Failure to make hazardous waste determinations; transportation, manifest, and packaging violations; failure to comply with land disposal restrictions applicable to hazardous waste; failure to obtain a permit for operation of a hazardous waste treatment, storage, and disposal facility; failure to obtain a permit for operation of a universal waste destination facility; failure to comply with universal waste handler regulations; failure to comply with record retention requirements; and failure to comply with the Georgia Comprehensive Solid Waste Management Act. The proposed consent decree requires the Defendants to pay a $25,000 civil penalty and perform injunctive relief to determine the extent of and remediate any disposals of hazardous waste. In return, the United States and State of Georgia agree not to sue for the claims alleged in the complaint.

The publication of this notice opens a period for public comment on the proposed consent decree. Comments should be addressed to the Assistant Attorney General, Environment and Natural Resources Division, and should refer to United States and State of Georgia v. Metal Conversion Technologies, LLC, D.J. Ref. No. 90-7-1-10141. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to:

Consent Decree Library, U.S. DOJ—ENRD, P.O. Box 7611, Washington, DC 20044-7611.

Please enclose a check or money order for $25.50 (25 cents per page reproduction cost) payable to the United States Treasury. For a paper copy without the exhibits and signature pages, the cost is $19.75.

Jeffrey Sands,
Assistant Section Chief, Environmental Enforcement Section, Environment and Natural Resources Division.

[FR Doc. 2016-15013 Filed 6-23-16; 8:45 am]

BILLING CODE 4410-CW-P